DEPARTMENT OF TRANSPORTATION

National Highway Traffic Safety Administration

[U.S. DOT Docket No. NHTSA-2011-0068]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before August 12, 2011.

ADDRESSES: You may submit comments identified by DOT Docket ID Number NHTSA-2011-0068 using any of the following methods:

Electronic submissions: Go to http://www.regulations.gov. Follow the online instructions for submitting comments.

Mail: Docket Management Facility, M-30, U.S. Department of Transportation, 1200 New Jersey Avenue, SE., West Building Ground Floor, Room W12-140, Washington, DC 20590.

Hand Delivery: West Building Ground Floor, Room W12-140, 1200 New Jersey Avenue, SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Mr. Alan Block, Contracting Officer's Technical Representative, Office of Behavioral Safety Research (NTI-131), National Highway Traffic Safety Administration, 1200 New Jersey Avenue, SE., W46-499, Washington, DC 20590. Mr. Block's phone number is 202-366-6401 and his e-mail address is alan.block@dot.gov

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(I) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

The National Survey of Pedestrian and Bicyclist Attitudes, Knowledge, and Behaviors

Type of Request—New information collection requirement.

OMB Clearance Number—None.

Form Number—NHTSA Form 1148.

Requested Expiration Date of Approval—3 years from date of approval.

Summary of the Collection of Information—The National Highway Traffic Safety Administration (NHTSA) proposes to collect information from the public to ascertain the scope and magnitude of bicycle and pedestrian activity and the public's behavior and attitudes regarding bicycling and walking. A national telephone survey will be administered to 9,000 randomly selected respondents drawn from all 50 States and the District of Columbia. The national survey will be preceded by a pretest administered to 15 respondents. The survey will ask about the characteristics of bicycling and walking trips, conspicuity, community design for bicycling and walking, bicycle helmet use, and general opinions about bicycling and walking. Interview length will average 20 minutes.

In conducting the proposed telephone interviews, the interviewers would use computer-assisted telephone interviewing to reduce interview length and minimize recording errors. No personally identifiable information will be collected during the telephone interviews.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

Pedestrian safety and bicyclist safety are two of several behavioral areas for which NHTSA has developed comprehensive programs to meet its injury reduction goals. The major components of pedestrian safety programs are education, enforcement, and outreach. Those three approaches are also applied to bicyclist safety programs, with legislative efforts added to the mix.

NHTSA encourages bicycling as an alternate mode of transportation to motor vehicle travel. Moreover, increasing safe bicycling and walking behavior is promoted as a positive contributor to the quality of life. But an increase in these behaviors often means an increase in exposure to potential risk of collision with motor vehicles, underscoring the need to have in place aggressive pedestrian and bicyclist safety programs to keep injuries on a downward trajectory. This in turn requires periodic data collection to assess whether the programs continue to be responsive to the public's information needs, behavioral intentions, attitudes, physical environment, and other factors that contribute to safety while walking or bicycling.

A survey of pedestrian and bicyclist attitudes and behavior was conducted in 2002. That survey provided program planners and community leaders with detailed information on walking and bicycling behavior, level of support for facilities assisting those activities, and awareness of safety issues. But the information is in need of updating, especially given recent programs and initiatives to increase walking and bicycling. This project will provide that update by conducting the 2012 National Survey of Bicyclist and Pedestrian Attitudes and Behavior.

NHTSA will use the findings from this proposed collection of information to assist States, localities, and communities in developing and refining bicycling and walking safety programs.

Description of the Likely Respondents (Including Estimated Number, and Proposed Frequency of Response to the Collection of Information)—Under this proposed effort, the Contractor would conduct 15 pretest telephone interviews and 9,000 national survey telephone interviews for a total of 9,015 interviews. The telephone interviews will be conducted with respondents age 16 and older, with over-sampling of respondents 16 through 39. Interview length will average 20 minutes. Interviews would be conducted with respondents at residential phone numbers selected through random digit dialing. Interviews would be conducted both with respondents using landline phones and respondents using cell phones. Businesses are ineligible for the sample and would not be interviewed. All respondents will be administered the survey one time only.

Estimate of the Total Annual Reporting and Record Keeping Burden Resulting from the Collection of Information—NHTSA estimates that respondents would require an average of 20 minutes to complete the telephone interviews or a total of 3,005 hours for the 9,015 respondents. All interviewing would occur during a two-to-three month period during 2012. Thus the annual reporting burden would be the entire 3,005 hours. The respondents would not incur any reporting cost from the information collection. The respondents also would not incur any record keeping burden or record keeping cost from the information collection.

Authority: 44 U.S.C. 3506(c)(2)(A).

Jeffrey Michael,
Associate Administrator, Research and Program Development.

[FR Doc. 2011-14464 Filed 6-10-11; 8:45 am]

BILLING CODE 4910-59-P